DEPARTMENT OF ENERGY

Federal Energy Regulatory Commission

[Docket No. RP01-568-000]

Northern Natural Gas Company; Notice of Tariff Filing Annual Charge Adjustment

September 7, 2001.

Take notice that on August 31, 2001, Northern Natural Gas Company (Northern), tendered for filing changes in its FERC Gas Tariff, Second Revised Volume No. 1, the following tariff sheets proposed to be effective October 1, 2001:

Fifth Revised Volume No. 1

57 Revised Sheet No. 50

58 Revised Sheet No. 51

25 Revised Sheet No. 52

55 Revised Sheet No. 53

7 Revised Sheet No. 56

19 Revised Sheet No. 59

3 Revised Sheet No. 59A

22 Revised Sheet No. 60

3 Revised Sheet No. 60A

Original Volume No. 2

166 Revised Sheet No.1C

42 Revised Sheet No. 1C.a

The filing establishes the revised Annual Charge Adjustment (ACA) rate effective October 1, 2001, for Northern's transportation rates. The ACA rate is designed to recover the charge assessed by the Commission pursuant to Part 382 of the Commission's Regulations.

Northern states that copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23120 Filed 9-14-01; 8:45 am]

BILLING CODE 6717-01-P